DEPARTMENT OF TRANSPORTATION

Federal Aviation Administration

14 CFR Part 71

[Docket No. FAA-2025-1159; Airspace Docket No. 25-AGL-5]

RIN 2120-AA66

Amendment of VOR Federal Airway V-300; Northcentral United States

AGENCY: Federal Aviation Administration (FAA), DOT.

ACTION: Notice of proposed rulemaking (NPRM).

SUMMARY: This action proposes to amend Very High Frequency Omnidirectional Range (VOR) Federal Airway V-300 due to the planned relocation of the Wiarton, Ontario (ON), Canada, VOR/Distance Measuring Equipment (VOR/DME) navigational aid (NAVAID). This action is in support of NAV CANADA's NAVAID Modernization Program.

DATES: Comments must be received on or before July 31, 2025.

ADDRESSES: Send comments identified by FAA Docket No. FAA-2025-1159 and Airspace Docket No. 25-AGL-5 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

VOR Federal airways are published in paragraph 6010(a) of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. FAA Order JO 7400.11J, which lists Class A, B, C, D, and E airspace areas, air traffic service routes, and reporting points, is publicly available as listed in the ADDRESSES section of this document.

Background

NAV CANADA, which operates Canada's civil air navigation service, is implementing changes to Canada's instrument flight rules (IFR) navigation infrastructure as part of their NAVAID Modernization Program. This modernization program is designed to enhance the efficiency of Canada's flying operations. The relocation of the Wiarton, ON, Canada, VOR/DME being accomplished by NAV CANADA in August 2025 affects VOR Federal Airway V-300 that extends across the United States (U.S.)/Canada border.

NAV CANADA is planning to relocate the Wiarton, ON, Canada, VOR/DME approximately 80 feet West of the current NAVAID location. As a result, the V-300 ground track and associated points where the airway crosses the U.S./Canada border will also change. Additionally, the FAA is replacing the Computer Navigation Fixes (CNFs) where the airway currently crosses the U.S./Canada border with named Fixes where the amended V-300 will cross the U.S./Canada border due to the Wiarton VOR/DME being relocated.

The Proposal

The FAA is proposing to amend 14 CFR part 71 by amending VOR Federal Airway V-300 due to the planned relocation of the Wiarton, ON, Canada, VOR/DME by NAV CANADA as part of their NAVAID Modernization Program. The proposed ATS route action is described below.

V-300: V-300 currently extends between the Sault Ste Marie, MI, VOR/DME and the Wiarton, ON, Canada, VOR/DME, excluding the airspace within Canada. The FAA proposes to amend the airway to describe the two airway segments within U.S. airspace. The first segment extends between the Sault Ste Marie, MI, VOR/DME and the intersection of the Sault Ste Marie VOR/DME 125° True (T)/129° Magnetic (M) and Pellston, MI, VORTAC 029° (T)/035° (M) radials (RIBIR Fix). The second segment extends between the intersection of the Sault Ste Marie VOR/DME 125° (T)/129° (M) and Pellston VORTAC 054° (T)/060° (M) radials (IILND Fix) replacing the “CFNKB” CNF on the U.S./Canada border and the intersection of the Sault Ste Marie VOR/DME 125° (T)/129° (M) and Pellston VORTAC 067° (T)/073° (M) radials (MRUCI Fix) replacing the “MKPDG” CNF on the U.S./Canada border. The new airway segments within U.S. airspace would continue to provide route continuity and cross-border connectivity with the V-300 airway segments being established by NAV CANADA within Canadian airspace.

The NAVAID radials listed in the VOR Federal Airway V-300 description in the proposed regulatory text of this NPRM are stated in degrees True and Magnetic north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6010(a) VOR Federal Airways.

* * * * *

V-300 [Amended]

From Sault Ste Marie, MI; to INT Sault Ste Marie 125° True (T)/129° Magnetic (M) and Pellston, MI, 029° (T)/035° (M) radials. From INT Sault Ste Marie 125° (T)/129° (M) and Pellston 054° (T)/060° (M) radials; to INT Sault Ste Marie 125° (T)/129° (M) and Pellston 067° (T)/073° (M) radials.

* * * * *

Issued in Washington, DC, on June 9, 2025.
Brian Eric Konie,
Acting Manager, Rules and Regulations Group.

[FR Doc. 2025-10898 Filed 6-13-25; 8:45 am]

BILLING CODE 4910-13-P